DEPARTMENT OF ENERGY

Environmental Management Site-Specific Advisory Board, Hanford

AGENCY: Office of Environmental Management, Department of Energy.

ACTION: Notice of open meeting.

SUMMARY: This notice announces a meeting of the Environmental Management Site-Specific Advisory Board (EM SSAB), Hanford. The Federal Advisory Committee Act requires that public notice of this meeting be announced in the Federal Register.

DATES: Wednesday, February 5, 2020; 8:30 a.m.-4:30 p.m. Thursday, February 6, 2020; 8:30 a.m.-4:30 p.m.

ADDRESSES: Best Western Plus, 1515 George Washington Way, Richland, WA 99354.

FOR FURTHER INFORMATION CONTACT: JoLynn Garcia, Federal Coordinator, U.S. Department of Energy, Office of River Protection, P.O. Box 450, H6-60, Richland, WA 99354; Phone: (509) 376-6244; or Email: jolynn_m_garcia@orp.doe.gov.

SUPPLEMENTARY INFORMATION: Purpose of the Board: The purpose of the Board is to make recommendations to DOE-EM and site management in the areas of environmental restoration, waste management, and related activities.

Tentative Agenda

• Potential Draft Hanford Advisory Board Advice

Consider Draft Advice on Fiscal Year 2022 Budget Priorities

• Discussion Topics

Tri-Party Agreement Agencies' Updates

Hanford Advisory Board Committee Reports

Board Business

Public Participation: The meeting is open to the public. The EM SSAB, Hanford, welcomes the attendance of the public at its advisory committee meetings and will make every effort to accommodate persons with physical disabilities or special needs. If you require special accommodations due to a disability, please contact JoLynn Garcia at least seven days in advance of the meeting at the telephone number listed above. Written statements may be filed with the Board either before or after the meeting. Individuals who wish to make oral statements pertaining to agenda items should contact JoLynn Garcia at the address or telephone number listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling JoLynn Garcia's office at the address or telephone number listed above. Minutes will also be available at the following website: http://www.hanford.gov/page.cfm/hab/FullBoardMeetingInformation.

Signed in Washington, DC, on December 5, 2019.
LaTanya Butler,
Deputy Committee Management Officer.

[FR Doc. 2019-26620 Filed 12-10-19; 8:45 am]

BILLING CODE 6450-01-P